DEPARTMENT OF TRANSPORTATION

Federal Aviation Administration

14 CFR Part 71

[Docket No. FAA-2022-0797; Airspace Docket No. 20-ANM-44]

RIN 2120-AA66

Amendment of Class D Airspace and Establishment of Class E Airspace; Butts Army Airfield (AAF) (Fort Carson) Airport, CO

AGENCY: Federal Aviation Administration (FAA), Department of Transportation (DOT).

ACTION: Final rule.

SUMMARY: This action modifies the Class D surface area, and establishes Class E airspace extending upward from 700 feet above the surface at Butts AAF (Fort Carson) Airport, CO. Additionally, this action makes administrative changes to update the airport's existing Class D legal description. These actions will support the safety and management of instrument flight rules (IFR) and visual flight rules (VFR) operations at the airport.

DATES: Effective 0901 UTC, February 23, 2023. The Director of the Federal Register approves this incorporation by reference under 1 CFR part 51, subject to the annual revision of FAA Order JO 7400.11, Airspace Designations and Reporting Points, and publication of conforming amendments.

ADDRESSES: FAA Order JO 7400.11G, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify the Class D airspace and establish Class E airspace at Butts AAF (Fort Carson) Airport, CO, to support IFR and VFR operations at the airport.

History

The FAA published a notice of proposed rulemaking (NPRM) in the Federal Register for FAA-2022-0797 (87 FR 47150; August 2, 2022) to modify the Class D surface area, and establish Class E airspace extending upward from 700 feet above the surface at Butts AAF (Fort Carson) Airport, CO. Additionally, the NPRM proposed administrative changes to update the airport's legal description. Interested parties were invited to participate in this rulemaking effort by submitting written comments on the proposal to the FAA. One comment was received which claimed: “A proper environmental study was not done for these airspace changes or procedures for Fort Carson.” This comment is inaccurate as proposed airspace changes were granted a categorical exclusion. See the “Environmental Review” section for further details.

Subsequent to the publication of the NPRM, the FAA discovered that the removal of the southeast extension to the Class D airspace was not mentioned in the proposed actions. This airspace area is no longer needed to contain departures until reaching 700 feet above the ground to the south, as the existing 4.3-mile radius of airspace surrounding the airport is sufficient. Additionally, the Iron Horse Nondirectional Beacon (NDB) previously used to describe the southeast extension is no longer needed, and can be removed from the legal description's text header. The geographical coordinates of the airport are more appropriate for describing the airspace at Butts AAF, and will be used in the final Class D airspace legal description.

Class D and Class E5 airspace designations are published in paragraphs 5000 and 6005, respectively, of FAA Order JO 7400.11G, dated August 19, 2022, and effective September 15, 2022, which is incorporated by reference in 14 CFR 71.1. The Class D and Class E airspace designations listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

The FAA is amending 14 CFR part 71 by modifying the Class D surface area, and establishing Class E airspace extending upward from 700 feet above the surface at Butts AAF (Fort Carson) Airport, CO.

Class D airspace is extended to the northwest to contain Runway 31 departures until reaching 700 feet above the surface due to rising terrain in that area. The extension southeast of the airport is removed, as it is no longer needed to contain departures until reaching 700 feet above the ground to the south, and the existing 4.3-mile radius of airspace surrounding the airport is sufficient.

Class E airspace extending upward from 700 feet above the surface is established southeast and north of the airport to properly contain departures until reaching 1,200 feet above the surface in those areas.

Finally, this action makes several administrative modifications to the Class D airspace legal description. The airport name in the text header is corrected to read: “Butts AAF (Fort Carson) Airport, CO.” The other airport referenced in the Class D legal description is corrected to read: “City of Colorado Springs Municipal Airport, CO.” The geographic coordinates for both Butts AAF (Fort Carson) Airport, CO and the City of Colorado Springs Municipal Airport, CO, are updated to match the FAA's database. Additionally, the outdated terms “Notice to Airmen” and “Airport/Facility Directory” have been replaced with the terms “Notice to Air Missions” and “Chart Supplement” respectively, to better match the FAA's current nomenclature. Lastly, reference to the “Iron Horse NDB, CO” is removed from the Class D legal description's text header, as it's no longer required to describe the airspace, and its removal simplifies the legal description.

Class D and Class E5 airspace designations are published in paragraphs 5000 and 6005, respectively, of FAA Order JO 7400.11G, dated August 19, 2022, and effective September 15, 2022, which is incorporated by reference in 14 CFR 71.1. The Class D and Class E airspace designations listed in this document will be published subsequently in FAA Order JO 7400.11.

FAA Order JO 7400.11 is published annually and becomes effective on September 15.

Regulatory Notices and Analyses

The FAA has determined that this regulation only involves an established body of technical regulations for which frequent and routine amendments are necessary to keep them operationally current, is non-controversial, and unlikely to result in adverse or negative comments. It therefore: (1) is not a “significant regulatory action” under Executive Order 12866; (2) is not a “significant rule” under DOT Regulatory Policies and Procedures (44 FR 11034; Feb. 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5a. This airspace action is not expected to cause any potentially significant environmental impacts, and no extraordinary circumstances exist that warrant the preparation of an environmental assessment.

List of Subjects in 14 CFR Part 71

Airspace, incorporation by reference, navigation (air).

Adoption of the Amendment

In consideration of the foregoing, the FAA amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 5000 Class D Airspace.

* * * * *

ANM CO D Fort Carson, CO [Amended]

Butts AAF (Fort Carson) Airport, CO

(Lat. 38°40′47″ N, long. 104°45′39″ W)

City of Colorado Springs Municipal Airport, CO

(Lat. 38°48′21″ N, long. 104°42′03″ W)

That airspace extending upward from the surface to but not including 8,400 feet MSL within a 4.3-mile radius of Butts Army Airfield Airport, and within 2.3 miles each side of the 331° bearing from the Butts Army Airfield Airport extending from the 4.3-mile radius to 6.9 miles northwest of the airport, excluding that airspace within the City of Colorado Springs Municipal Airport's Class C airspace area. This Class D airspace area is effective during the specific dates and times established in advance by a Notice to Air Missions. The effective dates and times will thereafter be continuously published in the Chart Supplement.

Paragraph 6005 Class E Airspace Areas Extending Upward From 700 Feet or More Above the Surface of the Earth.

* * * * *

ANM CO E5 Fort Carson, CO [New]

Butts AAF (Fort Carson) Airport, CO

(Lat. 38°40′47″ N, long. 104°45′39″ W)

That airspace extending upward from 700 feet above the surface within 2.0 miles each side of the 125° bearing from the airport extending from the Butts Army Airfield Airport Class D to 7.7 miles southeast of the airport, and within 2.1 miles each side of the 342° bearing from the airport extending from the Butts Army Airfield Airport Class D to 9 miles north of the airport.

Issued in Des Moines, Washington, on November 29, 2022.
B.G. Chew,
Group Manager, Operations Support Group, Western Service Center.

[FR Doc. 2022-26349 Filed 12-2-22; 8:45 am]

BILLING CODE 4910-13-P